DEPARTMENT OF ENERGY

Federal Energy Regulatory Commission

Combined Notice of Filings #1

Take notice that the Commission received the following electric corporate filings:

Docket Numbers: EC17-143-000.

Applicants: Great Valley Solar 1, LLC, Great Valley Solar 2, LLC.

Description: Application for Authorization of Transaction Pursuant to Section 203 of the Federal Power Act of Great Valley Solar 1, LLC, et al.

Filed Date: 7/31/17.

Accession Number: 20170731-5316.

Comments Due: 5 p.m. ET 8/21/17.

Docket Numbers: EC17-144-000.

Applicants: Noble Americas Gas & Power Corp., Mercuria Energy America, Inc.

Description: Joint Application for Authorization under Section 203 of the Federal Power Act of Noble Americas Gas & Power Corp., et al.

Filed Date: 7/31/17.

Accession Number: 20170731-5318.

Comments Due: 5 p.m. ET 8/21/17.

Take notice that the Commission received the following electric rate filings:

Docket Numbers: ER10-2906-010; ER10-2908-010; ER10-2910-010; ER11-4666-003; ER11-4667-003; ER12-295-002; ER11-4669-004; ER11-4670-004; ER12-709-003.

Applicants: Morgan Stanley Capitol Group Inc., MS Solar Solutions Corp., Power Contract Financing II, L.L.C., NaturEner Glacier Wind Energy 1, LLC, NaturEner Glacier Wind Energy 2, LLC, NaturEner Rim Rock Wind Energy, LLC, Naturener Montana Wind Energy, LLC, NaturEner Power Watch, LLC, NaturEner Wind Watch, LLC.

Description: Notice of Change in Status of the Morgan Stanley Public Utilities, et al.

Filed Date: 7/31/17.

Accession Number: 20170731-5325.

Comments Due: 5 p.m. ET 8/21/17.

Docket Numbers: ER17-1357-001.

Applicants: Duke Energy Progress, LLC, Duke Energy Carolinas, LLC.

Description: Report Filing: Errata to June 27 Filing (Loss Factors) to be effective N/A.

Filed Date: 7/31/17.

Accession Number: 20170731-5138.

Comments Due: 5 p.m. ET 8/21/17.

Docket Numbers: ER17-2201-000.

Applicants: Exelon FitzPatrick, LLC.

Description: Baseline eTariff Filing: Exelon Fitzpatrick MBR Application to be effective 9/29/2017.

Filed Date: 7/31/17.

Accession Number: 20170731-5242.

Comments Due: 5 p.m. ET 8/21/17.

Docket Numbers: ER17-2202-000.

Applicants: PJM Interconnection, L.L.C.

Description: § 205(d) Rate Filing: Queue Nos. Y3-051/Z1-058/Z1-059/Z2-002, Third Rev. Service Agreement No. 3669 to be effective 8/29/2016.

Filed Date: 7/31/17.

Accession Number: 20170731-5244.

Comments Due: 5 p.m. ET 8/21/17.

Docket Numbers: ER17-2203-000.

Applicants: Arizona Public Service Company.

Description: § 205(d) Rate Filing: Mead Service Agreement Nos. 218 and 335 to be effective 7/1/2017.

Filed Date: 7/31/17.

Accession Number: 20170731-5290.

Comments Due: 5 p.m. ET 8/21/17.

Docket Numbers: ER17-2204-000.

Applicants: Pacific Gas and Electric Company.

Description: § 205(d) Rate Filing: 7-31-17 Unexecuted Agreement, City and County of San Francisco WDT (SA 275) to be effective 8/1/2017.

Filed Date: 7/31/17.

Accession Number: 20170731-5293.

Comments Due: 5 p.m. ET 8/21/17.

Docket Numbers: ER17-2205-000.

Applicants: PJM Interconnection, L.L.C.

Description: § 205(d) Rate Filing: Interconnection Service Agreement No. 4761; Queue NQ147 to be effective 8/1/2017.

Filed Date: 7/31/17.

Accession Number: 20170731-5299.

Comments Due: 5 p.m. ET 8/21/17.

Docket Numbers: ER17-2206-000.

Applicants: Alabama Power Company.

Description: § 205(d) Rate Filing: SWE (Hartford) NITSA Amendment Filing to be effective 7/1/2017.

Filed Date: 7/31/17.

Accession Number: 20170731-5310.

Comments Due: 5 p.m. ET 8/21/17.

Docket Numbers: ER17-2207-000.

Applicants: Entergy Texas, Inc.

Description: § 205(d) Rate Filing: Coordination Services Agreement to be effective 8/1/2017.

Filed Date: 8/1/17.

Accession Number: 20170801-5004.

Comments Due: 5 p.m. ET 8/22/17.

Docket Numbers: ER17-2208-000.

Applicants: Entergy Arkansas, Inc., Entergy Louisiana, LLC, Entergy Mississippi, Inc., Entergy New Orleans, Inc., Entergy Texas, Inc.

Description: § 205(d) Rate Filing: Entergy OpCos Reactive Power Update to be effective 8/1/2017.

Filed Date: 8/1/17.

Accession Number: 20170801-5005.

Comments Due: 5 p.m. ET 8/22/17.

Docket Numbers: ER17-2209-000.

Applicants: Duke Energy Progress, LLC.

Description: § 205(d) Rate Filing: Filing of Vepco Faciliities Agreement RS 203 to be effective 10/2/2017.

Filed Date: 8/1/17.

Accession Number: 20170801-5025.

Comments Due: 5 p.m. ET 8/22/17.

Docket Numbers: ER17-2209-000.

Applicants: Duke Energy Progress, LLC.

Description: Report Filing: Refund Report Vepco Facilities Agreement to be effective N/A.

Filed Date: 8/1/17.

Accession Number: 20170801-5026.

Comments Due: 5 p.m. ET 8/22/17.

Docket Numbers: ER17-2210-000.

Applicants: Duke Energy Carolinas, LLC.

Description: § 205(d) Rate Filing: SCE&G Metering Agreement RS 349 to be effective 10/2/2017.

Filed Date: 8/1/17.

Accession Number: 20170801-5046.

Comments Due: 5 p.m. ET 8/22/17.

Docket Numbers: ER17-2211-000.

Applicants: Duke Energy Ohio, Inc.

Description: § 205(d) Rate Filing: Hamilton Joint Use Pole Agreement to be effective 10/2/2017.

Filed Date: 8/1/17.

Accession Number: 20170801-5071.

Comments Due: 5 p.m. ET 8/22/17.

Docket Numbers: ER17-2212-000.

Applicants: Duke Energy Ohio, Inc.

Description: § 205(d) Rate Filing: Bio Energy GIA Filing to be effective 10/2/2017.

Filed Date: 8/1/17.

Accession Number: 20170801-5093.

Comments Due: 5 p.m. ET 8/22/17.

Docket Numbers: ER17-2212-000.

Applicants: Duke Energy Ohio, Inc.

Description: Report Filing: Bio Energy Refund Report to be effective N/A.

Filed Date: 8/1/17.

Accession Number: 20170801-5098.

Comments Due: 5 p.m. ET 8/22/17.

Docket Numbers: ER17-2213-000.

Applicants: Niagara Mohawk Power Corporation, New York Independent System Operator, Inc.

Description: § 205(d) Rate Filing: NMPC 205 CRA No. 2357 with NYSEG for Silver Creek Substation to be effective 5/3/2017.

Filed Date: 8/1/17.

Accession Number: 20170801-5097.

Comments Due: 5 p.m. ET 8/22/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 1, 2017.
Nathaniel J. Davis, Sr.,
Deputy Secretary.

[FR Doc. 2017-16545 Filed 8-4-17; 8:45 am]

BILLING CODE 6717-01-P